DEPARTMENT OF COMMERCE

International Trade Administration

[C-533-933]

Hexamethylenetetramine From India: Final Affirmative Countervailing Duty Determination and Final Affirmative Critical Circumstances Determination, in Part

AGENCY: Enforcement and Compliance, International Trade Administration, Department of Commerce.

SUMMARY: The U.S. Department of Commerce (Commerce) determines that countervailable subsidies are being provided to producers and exporters of hexamethylenetetramine (hexamine) from India. The period of investigation (POI) is April 1, 2023, through March 31, 2024.

DATES: Applicable September 23, 2025.

FOR FURTHER INFORMATION CONTACT: Thomas Schauer, AD/CVD Operations, Office I, Enforcement and Compliance, International Trade Administration, U.S. Department of Commerce, 1401 Constitution Avenue NW, Washington, DC 20230; telephone: (202) 482-0410.

SUPPLEMENTARY INFORMATION:

Background

On March 7, 2025, Commerce published in the Federal Register its Preliminary Determination in the countervailing duty (CVD) investigation on hexamine from India and invited parties to comment.¹ In the Preliminary Determination, and in accordance with section 705(a)(1) of the Tariff Act of 1930, as amended (the Act), and 19 CFR 351.210(b)(4), Commerce aligned the final CVD determination with the final determination in the less-than-fair-value investigation of hexamine from India.² On August 27, 2025, the petitioner filed a timely critical circumstances allegation pursuant to section 703(e)(1) of the Act and 19 CFR 351.206(c)(1).³ Because the petitioner alleged critical circumstances for the first time 22 days before the scheduled date of the final determination, we did not make a separate preliminary determination of critical circumstances.⁴

¹ See Hexamethylenetetramine from India: Preliminary Affirmative Countervailing Duty Determination and Alignment of Final Determination with Final Antidumping Duty Determination, 90 FR 11512 (March 7, 2025) (Preliminary Determination), and accompanying Preliminary Decision Memorandum (PDM).

² See Preliminary Determination, 90 FR at 11513.

³ See Petitioner's Letter, “Critical Circumstances Allegation,” dated August 27, 2025. The petitioner is Bakelite LLC.

⁴ See 19 CFR 351.206(c)(1) (“If the petitioner submits an allegation of critical circumstances 30 days or more before the scheduled date of the Secretary's final determination, the Secretary, based on the available information, will make a preliminary finding whether there is a reasonable basis to believe or suspect that critical circumstances exist, as defined in section 703(e)(1) or section 733(e)(1) of the Act (whichever is applicable)”).

For a complete description of the events that followed the Preliminary Determination, see the Issues and Decision Memorandum.⁵ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁵ See Memorandum, “Issues and Decision Memorandum for the Final Affirmative Determination of the Countervailing Duty Investigation of Hexamethylenetetramine from India,” dated concurrently with, and hereby adopted by, this notice (Issues and Decision Memorandum).

Scope of the Investigation

The product covered by this investigation is hexamine from India. For a complete description of the scope of this investigation, see Appendix I.

Scope Comments

We received no comments from interested parties on the scope of the investigation as it appeared in the Preliminary Determination. Therefore, we made no changes to the scope of the investigation from that published in the Preliminary Determination for the final determination.

Verification

As provided in section 782(i) of the Act, in May 2025, Commerce conducted verification of the information reported by Kanoria Chemicals and Industries Limited (Kanoria) for use in our final determination. We used standard verification procedures, including an examination of relevant account records and original source documents provided by Kanoria.⁶

⁶ See Memorandum, “Verification of the Questionnaire Responses of Kanoria Chemicals and Industries Limited and Vardhan Limited,” dated June 2 2025.

Final Affirmative Determination of Critical Circumstances, in Part

Pursuant to sections 705(a)(2)(A) and (B) of the Act and 19 CFR 351.206, we find that critical circumstances do not exist for Kanoria and all other producers and exporters except that we find that critical circumstances exist for non-responsive producers and exporters, i.e., Horizon Chemicals, Micro Labs Ltd., Shreenathji Rasayan Private Limited, and Rajsha Chemicals Pvt. Ltd. For a full discussion of Commerce's critical circumstances analysis, see the Issues and Decision Memorandum.

Analysis of Subsidy Programs and Comments Received

The subsidy programs under investigation, and the issues raised in the case and rebuttal briefs that were submitted by interested parties in this investigation are discussed in the Issues and Decision Memorandum. For a complete list of the issues raised by parties to which we responded in the Issues and Decision Memorandum, see Appendix II.

Methodology

Commerce conducted this investigation in accordance with section 701 of the Act. For each of the subsidy programs found to be countervailable, Commerce determines that there is a subsidy, i.e., a financial contribution by an “authority” that gives rise to a benefit to the recipient, and that the subsidy is specific.⁷ For a full description of the methodology underlying our final determination, see the Issues and Decision Memorandum.

⁷ See sections 771(5)(B) and (D) of the Act regarding financial contribution; see also section 771(5)(E) of the Act regarding benefit; and section 771(5A) of the Act regarding specificity.

In making this final determination, Commerce relied, in part, on facts otherwise available, with adverse inferences (AFA), pursuant to sections 776(a) and (b) of the Act. For a full discussion of our methodology, including our application of AFA, see the Preliminary Determination ⁸ and the Issues and Decision Memorandum.

⁸ See Preliminary Determination PDM at 4-30.

Changes Since the Preliminary Determination

Based on our review of the information examined at verification and analysis of the comments received from interested parties, we made certain changes to the countervailable subsidy rate calculations for Kanoria which, in turn, affected the rates assigned to all other producers/exporters. For a discussion of these changes, see the Issues and Decision Memorandum.

All-Others Rate

In accordance with section 705(c)(1)(B)(i) of the Act, we calculated an individual estimated countervailable subsidy rate for the sole mandatory respondent, Kanoria. Section 705(c)(5)(A)(i) of the Act states that, for companies not individually investigated, Commerce will determine an all-others rate equal to the weighted-average countervailable subsidy rates established for exporters and/or producers individually investigated, excluding any rates that are zero, de minimis, or determined entirely under section 776 of the Act.

In this investigation, Commerce calculated an individual estimated countervailable subsidy rate for the sole mandatory respondent, Kanoria, that is not zero, de minimis, or based entirely on the facts otherwise available. Consequently, we assigned the rate calculated for Kanoria as the rate for all-other producers and exporters.

Final Determination

Commerce determines that the following estimated net countervailable subsidy rates exist for the period April 1, 2023, through March 31, 2024:

Company | Subsidy rate (percent ad valorem)
Kanoria Chemicals and Industries Limited ⁹ | 2.34
Horizon Chemicals | * 139.57
Micro Labs Ltd | * 139.57
Shreenathji Rasayan Private Limited | * 139.57
Rajsha Chemicals Pvt. Ltd | * 139.57
All Others | 2.34
* Rate based on total AFA.

Disclosure

⁹ Commerce continues to find the following company to be cross-owned with Kanoria Chemicals and Industries Limited: Vardhan Limited.

Commerce intends to disclose its calculations performed to interested parties in this final determination within five days of its public announcement or, if there is no public announcement, within five days of the date of the publication of this notice in the Federal Register, in accordance with 19 CFR 351.224(b).

Suspension of Liquidation

As a result of our Preliminary Determination, and pursuant to sections 703(d)(1)(B) and (d)(2) of the Act, Commerce instructed U.S. Customs and Border Protection (CBP) to collect cash deposits and suspend liquidation of entries of subject merchandise from India that were entered, or withdrawn from warehouse, for consumption on or after March 7, 2025, the date of publication of the Preliminary Determination in the Federal Register.¹⁰ In accordance with section 703(d) of the Act, we instructed CBP to discontinue the suspension of liquidation of all entries of subject merchandise entered or withdrawn from warehouse, on or after July 5, 2025, but to continue the suspension of liquidation of all entries of subject merchandise on or before July 4, 2025.

¹⁰ See Preliminary Determination 90 FR at 11513.

In accordance with section 705(c)(4)(B) of the Act, for all companies for which we made an affirmative determination of critical circumstances, we will direct CBP to suspend liquidation of entries of subject merchandise from India entered, or withdrawn from warehouse for consumption, on or after December 7, 2024, which is 90 days prior to the date of publication of the Preliminary Determination in the Federal Register. As noted above, because the petitioner did not allege critical circumstances existed until after the publication of the Preliminary Determination and 22 days before the scheduled date of the final determination, for such any party receiving an affirmative critical circumstance determination, we shall instruct CBP to require a cash deposit equal to the estimated weighted-average dumping margin established in the Preliminary Determination for the period prior to the publication of the Preliminary Determination in the Federal Register.¹¹

¹¹ See section 705(c)(4)(B) of the Act (“If the determination of the administering authority under subsection (a)(2) is affirmative, then the administering authority shall—(B) in cases where the preliminary determination by the administering authority under section 703(b) was affirmative, but the preliminary determination under section 703(e)(1) was negative, modify any suspension of liquidation and security requirement previously ordered under section 703(d) to apply to unliquidated entries of merchandise entered, or withdrawn from warehouse, for consumption on or after the date which is 90 days before the date on which suspension of liquidation was first ordered;”).

If the U.S. International Trade Commission (ITC) issues a final affirmative injury determination, we will issue a CVD order, reinstate the suspension of liquidation under section 706(a) of the Act, and require a cash deposit of estimated countervailing duties for entries of subject merchandise in the amounts indicated above. Pursuant to section 705(c)(2) of the Act, if the ITC determines that material injury, or threat of material injury, does not exist, this proceeding will be terminated, and all estimated duties deposited or securities posted as a result of the suspension of liquidation will be refunded or cancelled.

ITC Notification

In accordance with section 705(d) of the Act, Commerce will notify the ITC of its final affirmative determination that countervailable subsidies are being provided to producers and exporters of hexamine from India. As Commerce's final determination is affirmative, in accordance with section 705(b) of the Act, the ITC will determine, within 45 days, whether the domestic industry in the United States is materially injured, or threatened with material injury, by reason of imports of hexamine from India. In addition, we are making available to the ITC all non-privileged and non-proprietary information in our files, provided the ITC confirms that it will not disclose such information, either publicly or under the administrative protective order (APO), without the written consent of the Assistant Secretary for Enforcement and Compliance.

If the ITC determines that material injury or threat of material injury does not exist, this proceeding will be terminated, and all cash deposits will be refunded. If the ITC determines that such injury does exist, Commerce will issue a CVD order directing CBP to assess, upon further instruction by Commerce, countervailing duties on all imports of the subject merchandise that are entered, or withdrawn, for consumption on or after the effective date of the suspension of liquidation, as discussed above in the “Suspension of Liquidation” section.

Administrative Protective Order

This notice will serve as the only reminder to parties subject to the APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published pursuant to sections 705(d) and 777(i) of the Act, and 19 CFR 351.210(c).

Dated: September 18, 2025.
Christopher Abbott,
Deputy Assistant Secretary for Policy and Negotiations, performing the non-exclusive functions and duties of the Assistant Secretary for Enforcement and Compliance.

Appendix I

Scope of the Investigation

The scope of the investigation covers hexamine in granular form, with a particle size of 5 millimeters or less, whether stabilized or unstabilized, whether or not blended, mixed, pulverized, or grounded with other products, containing 50 percent or more hexamine by weight.

Hexamine is the common name for hexamethylene tetramine (Chemical Abstract Service #100-97-0), and is also referred to as 1,3,5,7-tetraazaadamantanemethenamine; HMT; HMTA; 1,3,5,7-tetraazatricyclo {3.3.1.13,7} decane; 1,3,5,7-tetraaza adamantane; hexamethylenamine. Hexamine has the chemical formula C6H12N4.

Granular hexamine that has been blended with other product(s) is included in this scope when the resulting mix contains 50 percent or more of hexamine by weight, regardless of whether it is blended with inert additives, co-reactants, or any additives that undergo self-condensation.

Subject merchandise includes merchandise matching the above description that has been processed in a third country, including by commingling, diluting, adding or removing additives, or performing any other processing that would not otherwise remove the merchandise from the scope of the investigations if performed in the subject country.

Merchandise covered by the scope of the investigations can be classified in the Harmonized Tariff Schedule (HTSUS) of the United States under the subheading 2933.69.5000. The HTSUS subheading and Chemical Abstracts Service registry number are provided for convenience and customs purposes only; however, the written description of the scope is dispositive.

Appendix II

List of Topics Discussed in the Issues and Decision Memorandum

I. Summary

II. Background

III. Use of Facts Otherwise Available and Application of Adverse Inferences

IV. Subsidies Valuation Information

V. Analysis of Programs

VI. Discussion of the Issue

Comment: Export Sales Values Adjustment

VII. Recommendation

[FR Doc. 2025-18442 Filed 9-22-25; 8:45 am]

BILLING CODE 3510-DS-P